DEPARTMENT OF AGRICULTURE

Rural Housing Service

U.S. Department of Agriculture Multi-Family Housing Section 515—Underserved Counties and Colonias and Non-Profits

AGENCY: Rural Housing Service, USDA.

ACTION: Notice.

SUMMARY: Through this Notice, the Rural Housing Service (RHS) announces the duration of time in Fiscal Year 2013 set-aside amounts will be available for Section 515 program non-profits and underserved areas. This Notice also outlines the reallocation process for the set-aside funds not obligated within the time period established in this Notice.

DATES: As of June 18, 2013.

FOR FURTHER INFORMATION CONTACT: Please contact Melinda Price, Loan and Finance Analyst, Multi-Family Housing, (614) 255-2403, fax (202) 720-0302, or email melinda.price@wdc.usda.gov. Persons with disabilities who require alternative means for communication (Brail, large print, audio tape, etc.) should contact the USDA Target Center at (202) 720-2600 (voice and TDD).

SUPPLEMENTARY INFORMATION: The Consolidated and Further Continuing Appropriations Act, 2013, Public Law 113-6, March 11, 2013, provided RHS with the funding levels for its Section 515 program until September 30, 2013. RHS received its initial allocation of funds (Allocation) on or about October 12, 2012, 9 percent of which will be set-aside for the Section 515 program's non-profits pursuant to 42 U.S.C. 1485(w). In addition, 5 percent of the allocation will be set-aside for the Section 515 program's underserved areas pursuant to 42 U.S.C. 1479(f)(4).

Any funds set-aside for eligible non-profit entities that are not obligated by nine months after RHS received funds shall be pooled and reallocated pursuant to 42 U.S.C. 1485(w)(3). Therefore, any non-profit set-aside funds distributed to States but not obligated by July 31, 2013, shall be pooled at the National Office and made available to any other eligible non-profit entity in any State. After the funds have been pooled and obligated for 30 days, any remaining funds shall be returned to States on a proportional basis to be used for any other eligible entity as defined in 42 U.S.C 1485 and 7 CFR part 3560.

Similarly, any funds set-aside for Underserved Counties and Colonias pursuant to 42 U.S.C. 1479(f)(4) that are not obligated by May 31, 2013, shall be made available to Colonias that have applied for and are eligible for assistance and did not yet receive assistance and to counties and communities eligible for designation as targeted underserved areas but which were not so designated. Any funds set-aside for Underserved Counties and Colonias that are still not obligated by July 31, 2013, shall be pooled and made available for the use in RHS's Section 515 program as set forth at 42 U.S.C. 1485 and 7 CFR part 3560.

Non-Discrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: June 11, 2013.
Tammye Treviño,
Administrator, Rural Housing Service.

[FR Doc. 2013-14399 Filed 6-17-13; 8:45 am]

BILLING CODE 3410-XV-P